DEPARTMENT OF LABOR

Employment and Training Administration

[TA-W-53,753]

Citation Corporation, Camden, Tennesse; Notice of Termination of Investigation

Pursuant to section 221 of the Trade Act of 1974, as amended, an investigation was initiated on December 9, 2003, in response to a petition filed by the Tennessee AFL-CIO on behalf of workers at Citation Corporation, Camden, Tennessee. Workers at the subject firm produced ductile iron castings.

The Department of Labor issued negative determinations applicable to the petitioning group of workers on June 16, 2003 (TA-W-51,871). No new information or change in circumstances is evident which would result in a reversal of the Department's previous determination. Consequently, further investigation would serve no purpose, and the investigation has been terminated.

Signed in Washington, DC this 11th day of December, 2003.
Linda G. Poole,
Certifying Officer, Division of Trade Adjustment Assistance.

[FR Doc. 04-291 Filed 1-6-04; 8:45 am]

BILLING CODE 4510-30-P